ARCTIC RESEARCH COMMISSION

Notice of 106th Commission Meeting

A notice by the U.S. Arctic Research Commission on August 26, 2016

Notice is hereby given that the U.S. Arctic Research Commission will hold its 106th meeting in Washington, DC, on September 29-30, 2016. The business sessions, open to the public, will convene at 8:30 a.m. at the U.S. Global Change Research Program, 1800 G St. NW., #9100, Conf. Rm. A, Washington, DC 20006. Photo identification is required to enter the building. Forms of acceptable identification are a driver's license, federal identification card, or passport. All attendees and visitors are required to go through a metal detector with the exception of pregnant women, and individuals with heart conditions. Security must be advised by those individuals with the above mentioned health conditions.

The Agenda items include:

(1) Call to order and approval of the agenda

(2) Approval of the minutes from the 105th meeting

(3) Commissioners and staff reports

(4) Discussion and presentations concerning Arctic research activities

The focus of this meeting will include reports and updates on programs and research projects affecting Alaska and the greater Arctic.

The Arctic Research and Policy Act of 1984 (Title I Pub. L. 98-373) and the Presidential Executive Order on Arctic Research (Executive Order 12501) dated January 28, 1985, established the United States Arctic Research Commission.

If you plan to attend this meeting, please notify us via the contact information below. Any person planning to attend, who requires special accessibility features and/or auxiliary aids, such as sign language interpreters, must inform the Commission of those needs in advance of the meeting.

Contact person for further information: Kathy Farrow, Communications Specialist, U.S. Arctic Research Commission, 703-525-0111 or TDD 703-306-0090.

Kathy Farrow,
Communications Specialist.

[FR Doc. 2016-21215 Filed 9-1-16; 8:45 am]

BILLING CODE 7555-01-P